DEPARTMENT OF HEALTH AND HUMAN SERVICES

Privacy Act of 1974; System of Records

AGENCY: Office of Security and Strategic Information (OSSI), Immediate Office of the Secretary (IOS), Department of Health and Human Services (HHS).

ACTION: Notice of a new system of records.

SUMMARY: In accordance with the requirements of the Privacy Act of 1974, as amended (the Act), the Department of Health and Human Services (HHS) is providing notice of the establishment of a new system of records, System No. 09-90-1701, HHS Insider Threat Program Records. The new system of records will cover records about individuals, retrieved by personal identifier, which are compiled and used by the Department's Office of Security and Strategic Information (OSSI), within the Immediate Office of the Secretary (IOS), to administer the Department's insider threat program. Because the records in this system of records include investigatory material compiled for law enforcement purposes and information classified in the interest of national security, elsewhere in today's Federal Register HHS has published a Notice of Proposed Rulemaking (NPRM) to exempt this system of records from certain requirements of the Privacy Act, pursuant to subsections (k)(1) and (k)(2) of the Act. The system of records is more fully described in the SUPPLEMENTARY INFORMATION section of this notice and in the System of Records Notice (SORN) published in this notice.

DATES: This system of records is applicable August 23, 2018 with the exception of the routine uses and exemptions. Written comments on the SORN should be submitted by September 24, 2018. If HHS receives no significant adverse comment within the specified comment period, the routine uses will be applicable on September 24, 2018. If any timely significant adverse comment is received, HHS will publish a revised system of records. The exemptions will be applicable following publication of a Final Rule.

ADDRESSES: The public should address written comments on the proposed system of records to insiderthreat@hhs.gov or to the HHS Office of Security and Strategic Information (OSSI), 200 Independence Avenue SW, Washington, DC 20201.

FOR FURTHER INFORMATION CONTACT: General questions about the system of records may be submitted to Michael Schmoyer, Ph.D., Assistant Deputy Secretary for National Security, by telephone, email, or mail, at (202) 690-5756 or insiderthreat@hhs.gov or at HHS Office of Security and Strategic Information (OSSI), 200 Independence Avenue SW, Washington, DC 20201.

SUPPLEMENTARY INFORMATION: Each federal agency is mandated by Presidential Executive Order 13587, issued October 7, 2011, to establish an insider threat detection and prevention program to ensure the security of classified networks and the responsible sharing and safeguarding of classified information consistent with appropriate protections for privacy and civil liberties. The order states in section 2.1:

The heads of agencies that operate or access classified computer networks shall have responsibility for appropriately sharing and safeguarding classified information on computer networks. As part of this responsibility, they shall implement an insider threat detection and prevention program consistent with guidance and standards developed by the Insider Threat Task Force established in section 6 of this order.

A threat need not be directed at classified information to threaten classified networks. Consequently, insider threats include any of the following: Attempted or actual espionage, subversion, sabotage, terrorism, or extremist activities directed against the Department and its personnel, facilities, information resources, and activities; unauthorized use of or intrusion into automated information systems; unauthorized disclosure of classified, controlled unclassified, sensitive, or proprietary information to technology; indicators of potential insider threats or other incidents that may indicate activities of an insider threat; and other threats to the Department, such as indicators of potential for workplace violence or misconduct.

The records that OSSI will compile to administer HHS' insider threat program may be from any HHS component, office, program, record or source, and may include records pertaining to information security, personnel security, or systems security. The records covered under System No. 09-90-1701 include investigatory material compiled for law enforcement purposes and information classified in the interest of national security. Accordingly, HHS has published a Notice of Proposed Rulemaking (NPRM) in today's Federal Register to exempt such material in the new system of records from certain Privacy Act requirements, based on subsections (k)(1) and (k)(2) of the Act.

The Insider Threat Program system of records includes investigatory material compiled for law enforcement purposes and information classified in the interest of national security. While OSSI does not perform criminal law enforcement activity as its principal function, OSSI may compile in System No. 09-90-1701 material obtained from other agencies or components which perform as their principal function activities pertaining to the enforcement of criminal laws, and which have exempted their records from certain Privacy Act requirements, based on 5 U.S.C. 552a(j)(2). All other investigatory material compiled for law enforcement purposes is eligible to be exempted from certain Privacy Act requirements based on 5 U.S.C. 552a(k)(2). Information classified in the interest of national security is eligible to be exempted from certain Privacy Act requirements, based on 5 U.S.C. 552a(k)(1). The Department's NPRM published in today's Federal Register proposes to establish these exemptions for System No. 09-90-1701:

• Law enforcement investigatory material compiled in this system of records that is from another system of records in which such material was exempted from access and other requirements of the Privacy Act (the Act) based on 5 U.S.C. 552a(j)(2) will be exempt in this system of records on the same basis (5 U.S.C. 552a(j)(2)) and from the same requirements as in the source system. The requirements from which records described in 5 U.S.C. 552a(j)(2) are eligible to be exempted are: (c)(3)-(4); (d)(1)-(4); (e)(1)-(3), (e)(4)(G)-(I), (e)(5), (e)(8), (e)(12); (f); (g); and (h).

• All other law enforcement investigatory material in System No. 09-90-1701 will be exempt, based on 5 U.S.C. 552a(k)(2), from the requirements in subsections (c)(3), (d)(1)-(4), (e)(1), (e)(4)(G)-(I), and (f) of the Act. However, if any individual is denied a right, privilege, or benefit to which the individual would otherwise be entitled by Federal law or for which the individual would otherwise be eligible, access will be granted, except to the extent that the disclosure would reveal the identity of a source who furnished information to the Government under an express promise of confidentiality.

• Information in this system of records that is classified in the interest of national security will be exempt, based on 5 U.S.C. 552a(k)(1), from the requirements in subsections (c)(3), (d)(1)-(4), (e)(1), (e)(4)(G)-(I), and (f) of the Act.

Note that this system of records does not cover investigatory material compiled solely for the purpose of determining suitability, eligibility, or qualification for federal civilian employment, military service, federal contracts, or access to classified information. Such material is covered by other HHS systems of records (i.e., 09-90-0002 with respect to HHS Office of Inspector General determinations, and 09-90-0020 as to all other HHS determinations) which have been exempted from access and other Privacy Act requirements based on 5 U.S.C. 552a(k)(5).

SYSTEM NAME AND NUMBER

HHS Insider Threat Program Records, 09-90-1701

SECURITY CLASSIFICATION:

Classified and unclassified.

SYSTEM LOCATION:

HHS Office of Security and Strategic Information (OSSI), 200 Independence Avenue SW, Washington, DC 20201.

SYSTEM MANAGER(S):

Assistant Deputy Secretary for National Security, HHS Office of Security and Strategic Information (OSSI), 200 Independence Avenue SW, Washington, DC 20201.

AUTHORITY FOR MAINTENANCE OF THE SYSTEM:

E.O. 13587, Structural Reforms To Improve the Security of Classified Networks and the Responsible Sharing and Safeguarding of Classified Information (Oct. 7, 2011).

Presidential Memorandum, National Insider Threat Policy and Minimum Standards for Executive Branch Insider Threat Programs (Nov. 21, 2012).

Intelligence Reform and Terrorism Prevention Act of 2004, Public Law 108-458, 118 Stat. 3638; Intelligence Authorization Act for FY 2010, Public Law 111-259, 124 Stat. 2654.

28 U.S.C. 535, Investigation of Crimes Involving Government Officers and Employees; Limitations; 50 U.S.C. 3381, Coordination of Counterintelligence Activities; E.O. 10450, Security Requirements for Government Employment (Apr. 17, 1953); E.O. 12333, United States Intelligence Activities (as amended); E.O. 12829, National Industrial Security Program; E.O. 12968, Access to Classified Information (Aug. 2, 1995); E.O. 13467, Reforming Processes Related to Suitability for Government Employment, Fitness for Contractor Employees, and Eligibility for Access to Classified National Security Information (June 30, 2008); E.O. 13488, Granting Reciprocity on Excepted Service and Federal Contractor Employee Fitness and Reinvestigating Individuals in Positions of Public Trust (Jan. 16, 2009); E.O. 13526, Classified National Security Information (Dec. 29, 2009).

44 U.S.C. 3554, Federal Agency Responsibilities; 44 U.S.C. 3557, National Security Systems. E.O. 12333, United States Intelligence Activities (Dec. 4, 1981); E.O. 13556, Controlled Unclassified Information (Nov. 4, 2010); E.O. 13526, Classified National Security Information (Dec. 29, 2009); E.O. 13388, Further Strengthening the Sharing of Terrorism Information To Protect Americans (Oct. 25, 2005); E.O. 13587, Structural Reforms to Improve the Security of Classified Information Networks and Responsible Sharing and Safeguarding of Classified Information (Oct. 7, 2011); E.O. 12829, National Industrial Security Program (Jan. 6, 1993); E.O. 13549, Classified National Security Information Programs for State, Local, Tribal, and Private Sector Entities (Aug. 18, 2010); E.O. 13636, Improving Critical Infrastructure Cybersecurity (Feb. 12, 2013); Committee on National Security Systems Directive 504, Directive on Protecting NSS from Insider Threat (Feb. 4, 2014); Committee on National Security Systems Directive 505, Supply Chain Risk Management (SCRM) (Mar. 7, 2012); Committee on National Security Systems Instruction 4009, Committee on National Security Systems (CNSS) Glossary (Apr. 6, 2015); Presidential Decision Directive/NSC-12 Security Awareness and Reporting of Foreign Contacts (Aug. 5, 1993); HHS Residual Standards of Conduct, 45 CFR part 73 (May 20, 2015); Statement of Organization, Functions, and Delegations of Authority for the Office of Security and Strategic Information, 71 FR 71004 (Nov. 28, 2012); HHS Counterintelligence and Insider Threat Policy (July 13, 2015); OS Policy for Special Monitoring of Employee Use of Information Technology Resources (Nov. 7, 2013); HHS Policy for Handling Security Incidents Related to the Potential Unauthorized Disclosure of Classified National Security Information (June 20, 2013); HHS Counterintelligence and Insider Threat Policy (July 7, 2015); HHS Policy for Handling Security Incidents Related to the Potential Unauthorized Disclosure of Classified National Security Information (June 20, 2013).

PURPOSE(S) OF THE SYSTEM:

The purpose of the system is to support a program of insider threat detection and prevention that is consistent with guidance and standards developed by the National Insider Threat Task Force, ensures the responsible sharing and safeguarding of information, and provides appropriate privacy and civil liberties protections. Records will be used on a need-to-know basis to manage insider threat matters; facilitate inside threat investigations and activities associated with counterintelligence and counterespionage complaints, inquiries and investigations; identify threats to Department resources, including threats to the Department's personnel, facilities, and information assets (including, in particular, classified networks and information); track tips and referrals of potential insider threats to internal and external partners; provide information for statistical reports; and meet other insider threat program requirements.

CATEGORIES OF INDIVIDUALS COVERED BY THE SYSTEM:

The categories of individuals covered by this system are HHS insiders, defined as any person with authorized access to any HHS resource to include personnel, facilities, information, equipment, networks or systems. Such persons include present and former HHS employees, members of joint task forces under the purview of HHS, contractors, detailees, assignees, interns, visitors, and guests.

For the purposes of this system of records, sensitive information includes information classified pursuant to Executive Orders 13526, 12829, and 13549 and unclassified information that requires safeguarding or dissemination controls pursuant to and consistent with law, regulations, and U.S. Government-wide policies falling under the program established by Executive Order 13556.

CATEGORIES OF RECORDS IN THE SYSTEM:

The system will include these categories of records:

A. Records derived from lawful HHS security investigations, including authorized physical, personnel, and communications security investigations, and information systems security analysis and reporting, such as:

• Responses to information requested by official questionnaires (e.g., SF 86 Questionnaire for National Security Positions) that include: Full name, former names and aliases; date and place of birth; social security number; height and weight; hair and eye color; gender; ethnicity and race; biometric data; mother's maiden name; personal identity verification (PIV) number; current and former home and work addresses, phone numbers, and email addresses; employment history; military record information; selective service registration record; residential history; education history and degrees earned; names of associates and references with their contact information; citizenship information; passport information; driver's license information; identifying numbers from access control passes or identification cards; criminal history; civil court actions; prior personnel security eligibility, investigative, and adjudicative information, including information collected through continuous evaluation; mental health history; records related to drug or alcohol use; financial record information; credit reports; the name, date and place of birth, social security number, and citizenship information for spouse or cohabitant; the name and marriage information for current and former spouse(s); the citizenship, name, date and place of birth, and address for relatives;

• Reports furnished to HHS or collected by HHS in connection with personnel security investigations, continuous evaluation for eligibility for access to classified information, and insider threat detection programs operated by HHS pursuant to Federal laws and Executive Orders and HHS policies, including information derived from: Responses to information requested on foreign contacts and activities; association records; information on loyalty to the United States;

• Records relating to the management and operation of HHS personnel and physical security, including information derived from: Personnel security adjudications and financial disclosure filings; nondisclosure agreements; document control registries; courier authorization requests; derivative classification unique identifiers; requests for access to sensitive compartmented information (SCI); security violation files; travel records; foreign contact reports; briefing and debriefing statements for special programs, positions designated as sensitive; polygraph examination results; logs of computer activities on all HHS information technology (IT) systems or any IT systems accessed by HHS personnel with security clearances; facility access records; and

• Reports of investigation regarding security violations, including: Individual statements or affidavits and correspondence; incident reports; drug test results; investigative records of a criminal, civil, or administrative nature; letters, emails, memoranda and reports; exhibits, evidence, statements, and affidavits; inquiries relating to suspected security violations; and recommended remedial actions for possible security violations.

B. Summaries or reports about potential insider threats, from:

• Reports of investigation regarding security violations, including: Statements, declarations, affidavits and correspondence; incident reports; investigative records of a criminal, civil or administrative nature; letters, emails, memoranda, and reports; exhibits and evidence; and, recommended remedial or corrective actions for security violations; reports about potential insider threats regarding: Personnel user names and aliases, levels of network access, audit data, information regarding misuse of HHS devices, information regarding unauthorized use of removable media, and logs of printer, copier, and facsimile machine use;

• Information collected through user activity monitoring, which is the technical capability to observe and record the actions and activities of all users, at any time, on a computer network monitored by HHS, even if not controlled by HHS, thereof in order to deter, detect, and mitigate insider threats as well as to support authorized investigations. Such information may include key strokes, screen captures, and content transmitted via email, chat, or data import or export;

• Reports about potential insider threats from records of usage of government telephone systems, including the telephone number initiating the call, the telephone number receiving the call, and the date and time of the call;

• Payroll information, travel vouchers, benefits information, credit reports, equal employment opportunity complaints, performance evaluations, disciplinary files, training records, substance abuse and mental health records of individuals undergoing law enforcement action or presenting an identifiable imminent threat, counseling statements, outside work and activities requests, and personal contact records; and

• Particularly sensitive or protected information, including information held by special access programs, law enforcement, inspector general, or other investigative sources or programs. Access to such information may require additional approval by the senior HHS official who is responsible for managing and overseeing the program.

C. Information related to investigative or analytical efforts by HHS insider threat program personnel, including:

• Identifying threats to HHS personnel, property, facilities, and information; information obtained from Intelligence Community members, the Federal Bureau of Investigation, or from other agencies or organizations about individuals known or suspected of being engaged in conduct constituting, preparing for, aiding, or relating to an insider threat, including espionage or unauthorized disclosure of classified national security information;

• Publicly available information, such as information regarding: Arrests and detentions; real property; bankruptcy; liens or holds on property; vehicles; licensure (including professional and pilot's licenses, firearms and explosive permits); business licenses and filings; and from social media;

• Information provided by record subjects and individual members of the public; and

• Information provided by individuals who report known or suspected insider threats.

D. Reports about potential insider threats obtained through the management and operation of the HHS Operating or Staff Division insider threat programs, including:

• Documentation pertaining to investigative or analytical efforts by HHS insider threat program personnel to identify threats to HHS personnel, property, facilities, and information;

• Records collated to examine information technology events and other information that could reveal potential insider threat activities; and

• Travel records.

E. Reports about potential insider threats obtained from other Federal Government sources, including:

• Documentation obtained from Intelligence Community members, the Federal Bureau of Investigation, or from other agencies or organizations pertaining to individuals known or suspected of being engaged in conduct constituting, preparing for, aiding, or relating to an insider threat, including espionage or unauthorized disclosure of classified national security information; and

• Intelligence reports and database query results relating to individuals covered by this system.

RECORD SOURCE CATEGORIES:

Information in the system will be received from Department officials, employees, contractors, and other individuals who are associated with or represent HHS; officials from other foreign, federal, tribal, state, and local government agencies and organizations; non-government, commercial, public, and private agencies and organizations; complainants, informants, suspects, and witnesses; and from relevant records, including counterintelligence and security databases and files; personnel security databases and files; HHS human resources databases and files; Office of the Chief Information Officer and information assurance databases and files; information collected through user activity monitoring; HHS telephone usage records; federal, state, tribal, territorial, and local law enforcement and investigatory records; Inspector General records; available U.S. Government intelligence and counterintelligence reporting information and analytic products pertaining to adversarial threats; other Federal agencies; and publicly available information.

ROUTINE USES OF RECORDS MAINTAINED IN THE SYSTEM, INCLUDING CATEGORIES OF USERS AND PURPOSES OF SUCH USES:

HHS may disclose records about an individual from this system of records to parties outside HHS, without the individual's prior written consent, pursuant to these routine uses:

1. Records may disclosed to agency contractors, consultants, or others who have been engaged by the agency to assist with accomplishment of an HHS function relating to the purposes of this system of records and who need to have access to the records in order to assist HHS.

2. Records may be disclosed to any person, organization, or governmental entity in order to notify them of a serious terrorist threat for the purpose of guarding against or responding to the threat.

3. Records may be disclosed to third parties during the course of an investigation to the extent necessary to obtain information pertinent to the investigation

4. Records may be disclosed to a federal, state, or local agency, or other appropriate entities or individuals, or through established liaison channels to selected foreign governments, in order to enable the intelligence agency with the relevant authority and responsibility for the matter to carry out its responsibilities under the National Security Act of 1947 as amended, the CIA act of 1949 as emended, Executive Order 12333 or any successor order, applicable national security directives, or classified implementing procedures approved by the Attorney General and promulgated pursuant to such statutes, orders or directives.

5. Factual information the disclosure of which would be in the public interest and which would not constitute an unwarranted invasion of personal privacy may be disclosed to the news media or the general public.

6. Where a record, either alone or in conjunction with other information, indicates a violation or potential violation of law, whether civil, criminal, or regulatory in nature, and whether arising by general statute or by regulation, rule, or order issued pursuant thereto, the relevant records in the system of records may be referred, as a routine use, to the agency concerned, whether federal, state, local, tribal, territorial, or foreign, charged with the responsibility of investigating or prosecuting such violation or charged with enforcing or implementing the statute, or the rule, regulation, or order issued pursuant thereto.

7. Records may be disclosed to an appropriate federal, state, local, tribal, territorial, foreign, or international agency, if the information is relevant and necessary to a requesting agency's decision concerning the hiring or retention of an individual, or issuance of a security clearance, license, contract, grant, delegation or designation of authority, or other benefit, or if the information is relevant and necessary to a HHS decision concerning the hiring or retention of an employee, the issuance of a security clearance, the reporting of an investigation of an employee, the letting of a contract, or the issuance of a license, grant, delegation or designation of authority, or other benefit and disclosure is appropriate to the proper performance of the official duties of the person making the request.

8. Records may be disclosed to the Department of Justice (DOJ) or to a court or other tribunal when:

a. HHS or any of its components; or

b. any employee of HHS acting in the employee's official capacity; or

c. any employee of HHS acting in the employee's individual capacity where the DOJ or HHS has agreed to represent the employee; or

d. the United States Government, is a party to a proceeding or has an interest in such proceeding and the disclosure of such records is deemed by the agency to be relevant and necessary to the proceeding.

9. Records may be disclosed to a congressional office from the record of an individual in response to a written inquiry from the congressional office made at the written request of that individual.

10. Records may be disclosed to representatives of the National Archives and Records Administration during records management inspections conducted pursuant to 44 U.S.C. 2904 and 2906.

11. Records may be disclosed to appropriate agencies, entities, and persons when (1) HHS suspects or has confirmed that there has been a breach of the system of records, (2) HHS has determined that as a result of the suspected or confirmed breach there is a risk of harm to individuals, HHS (including its information systems, programs, and operations), the federal government, or national security, and (3) the disclosure made to such agencies, entities, and persons is reasonably necessary to assist in connection with HHS's efforts to respond to the suspected or confirmed breach or to prevent, minimize, or remedy such harm.

12. Records may be disclosed to another federal agency or federal entity, when HHS determines that information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.

13. Records may be disclosed to the U.S. Department of Homeland Security (DHS) if captured in an intrusion detection system used by HHS and DHS pursuant to a DHS cybersecurity program that monitors internet traffic to and from federal government computer networks to prevent a variety of types of cybersecurity incidents.

The disclosures authorized by publication of the above routine uses pursuant to 5 U.S.C. 552a(b)(3) are in addition to the following disclosures which HHS may make based on other authorizations:

• Disclosures authorized by the subject individual's prior written consent pursuant to 5 U.S.C. 552a(b). For example, another agency conducting a background investigation or assessment may request information from this system of records using the consent form that the subject individual signed.

• Disclosures authorized directly in the Privacy Act at 5 U.S.C. 552a(b)(1), (2) and (b)(4)-(11). For example, another agency conducting a law enforcement activity may request information from this system of records by making the request in accordance with 5 U.S.C. 552a(b)(7).

POLICIES AND PRACTICES FOR STORAGE OF RECORDS:

Records will be stored in hard copy files and electronic media.

POLICIES AND PRACTICES FOR RETRIEVAL OF RECORDS:

Records will be retrieved by an individual record subject's name, SSN, or PIV identification number.

POLICIES AND PRACTICES FOR RETENTION AND DISPOSAL OF RECORDS:

The records in this system of records are covered by National Archives and Records Administration General Records Schedule 5.6, items 230 and 240. Records determined to be associated with an insider threat or to have potential to be associated with an insider threat are destroyed 25 years after the date the threat was discovered, but a longer retention is authorized if required for business use. User attributable data collected to monitor user activities on a network to enable insider threat programs and activities to identify and evaluate anomalous activity, identify and assess misuse or exploitation, or support authorized inquiries and investigations, is destroyed five years after an inquiry was opened, but a longer retention is authorized if required for business use.

ADMINISTRATIVE, TECHNICAL, AND PHYSICAL SAFEGUARDS:

Safeguards will conform to the HHS Information Security and Privacy Program, http://www.hhs.gov/ocio/securityprivacy/index.html. Information will be safeguarded in accordance with applicable laws, rules and policies, including the HHS Information Technology Security Program Handbook, all pertinent National Institutes of Standards and Technology (NIST) publications, and OMB Circular A-130, Managing Information as a Strategic Resource. Records will be protected from unauthorized access through appropriate administrative, physical, and technical safeguards. These safeguards include protecting the facilities where records are stored or accessed with security guards, badges and cameras; securing hard-copy records in locked file cabinets, file rooms or offices during off-duty hours; controlling access to physical locations where records are maintained and used by means of combination locks and identification badges issued only to authorized users; limiting access to electronic databases to authorized users based on roles and two-factor authentication (user ID and password), using a secured operating system protected by encryption, firewalls, and intrusion detection systems, requiring encryption for records stored on removable media, and training personnel in Privacy Act and information security requirements. Records that are eligible for destruction will be disposed of using secure destruction methods prescribed by NIST SP 800-88.

RECORD ACCESS PROCEDURES:

An individual seeking access to records about him or her in this system of records should submit an access request to the System Manager identified in the “System Manager” section of this SORN, and must follow the access procedures contained in the HHS Privacy Act regulations, 45 CFR part 5b (currently located in section 5b.5). The individual's right of access under the Privacy Act will be subject to the exemptions promulgated for this system of records. Records compiled in reasonable anticipation of a civil action or proceeding are excluded from the Privacy Act access requirement in all systems of records as provided in 5 U.S.C. 552a(d)(5).

CONTESTING RECORD PROCEDURES:

An individual seeking to amend a record about him or her in this system of records should submit an amendment request to the System Manager indicated in the “System Manager” section of this SORN, and must follow the correction/amendment procedures contained in the HHS Privacy Act regulations, 45 CFR part 5b (currently located in section 5b.7). The individual's right of amendment will be subject to the exemptions promulgated for this system of records.

NOTIFICATION PROCEDURES:

An individual who wishes to know if this system contains records about him or her should submit a notification request to the System Manager indicated in the “System Manager” section of this SORN, and must follow the notification procedures contained in the HHS Privacy Act regulations, 45 CFR part 5b (currently located in section 5b.5). The individual's right to notification will be subject to the exemptions promulgated for this system of records.

EXEMPTIONS PROMULGATED FOR THE SYSTEM:

Upon completion of the Department's pending rulemaking (i.e., when a Final Rule has been published in the Federal Register and has become effective based on the Notice of Proposed Rulemaking published elsewhere in today's Federal Register), this system of records will be exempt from access and other requirements of the Privacy Act, as follows:

• Material compiled in this system of records that is from another system of records in which such material was exempted from access and other requirements of the Privacy Act (the Act) based on 5 U.S.C. 552a(j)(2) will be exempt in this system of records on the same basis (5 U.S.C. 552a(j)(2)) and from the same requirements as in the source system. The requirements from which records described in 5 U.S.C. 552a(j)(2) are eligible to be exempted are: (c)(3)-(4); (d)(1)-(4); (e)(1)-(3), (e)(4)(G)-(I), (e)(5), (e)(8), (e)(12); (f); (g); and (h).

• All other law enforcement investigatory material in System No. 09-90-1701 will be exempt, based on 5 U.S.C. 552a(k)(2), from the requirements in subsections (c)(3), (d)(1)-(4), (e)(1), (e)(4)(G)-(I), and (f) of the Act. However, if any individual is denied a right, privilege, or benefit to which the individual would otherwise be entitled by Federal law or for which the individual would otherwise be eligible, access will be granted, except to the extent that the disclosure would reveal the identity of a source who furnished information to the Government under an express promise of confidentiality.

• Information in this system of records that is classified in the interest of national security will be exempt, based on 5 U.S.C. 552a(k)(1), from the requirements in subsections (c)(3), (d)(1)-(4), (e)(1), (e)(4)(G)-(I), and (f) of the Act.

HISTORY:

None.

Dated: June 29, 2018.
Michael Schmoyer,
Assistant Deputy Secretary for National Security.

[FR Doc. 2018-18290 Filed 8-22-18; 8:45 am]

BILLING CODE 4151-17-P